DEPARTMENT OF EDUCATION

Office of Special Education Programs; Notice of Proposed Priority; State Program Improvement Grant Program

AGENCY: Office of Special Education and Rehabilitative Services, Department of Education.

ACTION: Notice of proposed priority.

SUMMARY: The Assistant Secretary for Special Education and Rehabilitative Services proposes a priority for the State Program Improvement Grant program administered by the Office of Special Education and Rehabilitative Services (OSERS) under the Individuals with Disabilities Education Act (IDEA), as amended. The Assistant Secretary may use this priority for competitions in fiscal year 2002 and subsequent years. The Secretary takes this action to focus Federal assistance on identified needs to improve results for children with disabilities. The proposed priority is intended to ensure wide and effective use of program funds.

DATES: We must receive all comments on the proposed priority on or before July 18, 2002.

ADDRESSES: Address all comments about this proposed priority to Debra Sturdivant, U.S. Department of Education, 400 Maryland Avenue, SW., room 3527, Switzer Building, Washington, DC 20202-2641. Comments may also be sent through the Internet: Larry.Wexler@ed.gov

You must include the term “State Improvement Grant” in the electronic message.

FOR FURTHER INFORMATION CONTACT: Larry Wexler, U.S. Department of Education, 400 Maryland Avenue, SW., room 3630, Switzer Building, Washington, DC 20202-2641. Telephone: (202) 205-5390. FAX: (202) 205-9179. Internet: Larry.Wexler@ed.gov

If you use a telecommunications device for the deaf (TDD), you may call the Federal Information Relay Service (FIRS) at 1-800-877-8339.

Individuals with disabilities may obtain a copy of this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 3630, 330 C Street, SW., Washington, DC, between the hours of 8:30 a.m. and 4:00 p.m., Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, contact the person listed under FOR FURTHER INFORMATION CONTACT.

We will announce the final priority in a notice in the Federal Register. We will determine the final priority after considering responses to this notice and other information available to the Department. This notice does not preclude us from proposing or funding additional priorities, subject to meeting applicable rulemaking requirements. This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority we are particularly interested in applications that meet the invitational priority. However, we do not give an application that meets the priority a competitive or absolute preference over other applications (34 CFR 75. 105(c)(1)).

General Requirements

All projects funded under the proposed priority must make positive efforts to employ and advance in employment qualified individuals with disabilities in project activities (see section 606 of IDEA). In addition, all applicants and projects funded under the proposed priority must involve individuals with disabilities or parents of individuals with disabilities in planning, implementing, and evaluating the projects (see section 661(f)(1)(A) of IDEA) State Program Improvement Grants Program.

Purpose of Program: The purpose of the State Program Improvement Grant program is to assist State educational agencies and their partners referred to in section 652(b) of IDEA with reforming and improving their systems for providing educational, early intervention, and transitional services, including their systems for professional development, technical assistance, and dissemination of knowledge about best practices, to improve results for children with disabilities.

Priority

Proposed Priority—Competitive Supplement to State Improvement Grants

Background

There are currently 36 State educational agencies that are funded under the State Improvement Grant program. These grants are meant to improve results for children with disabilities by addressing personnel training needs of States, as identified by the States, and have been an example of the Department's continuing effort to improve educational opportunities for all children. Congress established the State Program Improvement Grant program when it reauthorized IDEA in 1997. The money helps State educational agencies reform their systems for providing educational, early intervention and transitional services for children with disabilities. It also supports technical assistance for local schools and dissemination of knowledge about best practices. Seventy-five percent of each grant of up to five years must be used for professional development.

As part of the competition, each State, in conjunction with required partners, including local education agencies and other State agencies that provide special education services (at its option the State may also include other partners such as the Governor, parents of children with disabilities, organizations representing individuals with disabilities and their parents, the lead State agency for part C IDEA, institutions of higher education within the State, etc.), submitted improvement plans focused on such areas as: (1) Training and personnel; (2) recruitment and retention of special education, related services and early intervention staff; (3) performance of children with disabilities; and (4) improving overall program effectiveness. The States receiving the grants have used the funds to implement the improvement strategies that they proposed in their plans. The Secretary anticipates that there will be additional fiscal year 2001 funds available subsequent to making awards under this year's competition. To utilize additional funds that may become available, the Secretary is proposing to conduct a separate competition under which only grantees from the FY 1999, 2000 and 2001 competitions would be eligible.

Priority

The Secretary proposes to establish a priority to award competitive supplements to State Improvement Grants awarded in 1999, 2000, or 2001 for the purpose of enhancing current grant activities. Applicants must describe additional activities that augment or complement those goals and activities that are already being implemented as part of their State Improvement Grant. Enhancement activities may be simply an expansion of activities already described in the narrative or they may be new activities that will improve the quality of the previously approved State improvement grant tasks. The Secretary is particularly interested in activities that focus on: (1) Retention and recruitment of highly qualified personnel; (2) the use of research-based reading intervention strategies; and (3) the use of research-based positive behavior supports.

Projects must—

(a) Enhance only those State Improvement Grant activities that can be shown, based on the project's data-based evaluation, to have impacted positively on the goal(s) of the project;

(b) Incorporate the expanded or new activities into the project's ongoing evaluation activities;

(c) Incorporate the expanded or new activities into the project's existing partnership agreements; and

(d) Ensure that the State uses not less than 75 percent of the funds (existing budget plus any supplemental funds) it receives under the grant for any fiscal year on professional development and training of regular education, special education, or related services personnel. Only 50 percent of the funds must be used on professional development if the State can demonstrate to the Department that it has sufficient personnel.

Under this priority, the Secretary will make, based on available funds, up to 36 awards with a project period of up to the amount of months remaining in the applicant's current State Improvement Grant subject to the requirements of 34 CFR 75.253(a) for continuation awards.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at either of the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number: State Program Improvement Grants Program, 84.323A.)

Program Authority: 20 U.S.C. 1405, 1461, 1472, 1474, and 1487.

Dated: June 13, 2002.
Robert H. Pasternack,
Assistant Secretary for Special Education and Rehabilitative Services.

[FR Doc. 02-15301 Filed 6-17-02; 8:45 am]

BILLING CODE 4000-01-P